DEPARTMENT OF HOMELAND SECURITY

Federal Emergency Management Agency

[Docket ID FEMA-2021-0002; Internal Agency Docket No. FEMA-B-2119]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas:
Benton | City of Bentonville (21-06-0361P). | The Honorable Stephanie Orman, Mayor, City of Bentonville, 117 West Central Avenue, Bentonville, AR 72712. | City Hall, 117 West Central Avenue, Bentonville, AR 72712. | https://msc.fema.gov/portal/advanceSearch. | Jun. 28, 2021 | 050012
Benton | Unincorporated areas of Benton County (21-06-0361P). | The Honorable Barry Moehring, Benton County Judge, 215 East Central Avenue, Bentonville, AR 72712. | Benton County Planning Department, 2113 West Walnut Street, Rogers, AR 72756. | https://msc.fema.gov/portal/advanceSearch. | Jun. 28, 2021 | 050419
Colorado:
Jefferson | City of Lakewood (20-08-0805P). | The Honorable Adam A. Paul, Mayor, City of Lakewood, 480 South Allison Parkway, Lakewood, CO 80226. | Engineering Department, 480 South Allison Parkway, Lakewood, CO 80226. | https://msc.fema.gov/portal/advanceSearch. | Jun. 25, 2021 | 085075
Larimer | Unincorporated areas of Larimer County (20-08-0490P). | The Honorable John Kefalas, Chairman, Larimer County Board of Commissioners, 200 West Oak Street, Suite 2200, Fort Collins, CO 80521. | Larimer County Engineering Department, 200 West Oak Street, Fort Collins, CO 80521. | https://msc.fema.gov/portal/advanceSearch. | Jun. 9, 2021 | 080101
Connecticut:
New Haven | Town of Branford (21-01-0065P). | The Honorable James B. Cosgrove, First Selectman, Town of Branford Board of Selectmen, 1019 Main Street, Branford, CT 06405. | Engineering Department, 1019 Main Street, Branford, CT 06405. | https://msc.fema.gov/portal/advanceSearch. | May 27, 2021 | 090073
Delaware:
New Castle | Unincorporated areas of New Castle County (20-03-1345P). | The Honorable Matthew Meyer, New Castle County Executive, 87 Read's Way, New Castle, DE 19720. | New Castle County Land Use Department, 87 Read's Way, New Castle, DE 19720. | https://msc.fema.gov/portal/advanceSearch. | Jun. 17, 2021 | 105085
Florida:
Gadsden | Unincorporated areas of Gadsden County (20-04-5221P). | The Honorable Anthony O. Viegbesie, Commissioner, Gadsden County, 9-B East Jefferson Street, Quincy, FL 32353. | Gadsden County Public Works Department, 1284 High Bridge Road, Quincy, FL 32351. | https://msc.fema.gov/portal/advanceSearch. | Jul. 2, 2021 | 120091
Miami-Dade | City of Miami (21-04-1237P). | The Honorable Francis X. Suarez, Mayor, City of Miami, 3500 Pan American Drive, Miami, FL 33133. | Building Department, 444 Southwest 2nd Avenue, 4th Floor, Miami, FL 33130. | https://msc.fema.gov/portal/advanceSearch. | Jun. 16, 2021 | 120650
Palm Beach | Unincorporated areas of Palm Beach County (20-04-3494P). | The Honorable David Kerner, Mayor, Palm Beach County Board of Commissioners, 301 North Olive Avenue, Suite 1201, West Palm Beach, FL 33401. | Palm Beach County Building Division, 2300 North Jog Road, West Palm Beach, FL 33411. | https://msc.fema.gov/portal/advanceSearch. | Jun. 15, 2021 | 120192
Palm Beach | Unincorporated areas of Palm Beach County (21-04-0678P). | The Honorable David Kerner, Mayor, Palm Beach County Board of Commissioners, 301 North Olive Avenue, Suite 1201, West Palm Beach, FL 33401. | Palm Beach County Building Division, 2300 North Jog Road, West Palm Beach, FL 33411. | https://msc.fema.gov/portal/advanceSearch. | Jun. 16, 2021 | 120192
Pinellas | City of Indian Rocks Beach (20-04-4881P). | Mr. Brently Gregg Mims, Manager, City of Indian Rocks Beach, 1507 Bay Palm Boulevard, Indian Rocks Beach, FL 33785. | Building Department, 1507 Bay Palm Boulevard, Indian Rocks Beach, FL 33785. | https://msc.fema.gov/portal/advanceSearch. | May 13, 2021 | 125117
Georgia:
Columbia | Unincorporated areas of Columbia County (20-04-3801P). | The Honorable Douglas R. Duncan, Jr., Chairman, Columbia County Board of Commissioners, 630 Ronald Reagan Drive, Building B, Evans, GA 30809. | Columbia County Engineering Services Division, 630 Ronald Reagan Drive, Building A, Evans, GA 30809. | https://msc.fema.gov/portal/advanceSearch. | Jun. 17, 2021 | 130059
Henry | Unincorporated areas of Henry County (20-04-2920P). | Ms. Cheri Hobson Matthews, Henry County Manager, 140 Henry Parkway, McDonough, GA 30253. | Henry County Stormwater Department, 347 Phillips Drive, McDonough, GA 30253. | https://msc.fema.gov/portal/advanceSearch. | Jul. 1, 2021 | 130468
Pickens | City of Jasper (20-04-1908P). | The Honorable Steve Lawrence, Mayor, City of Jasper, 200 Burnt Mountain Road, Jasper, GA 30143. | City Hall, 200 Burnt Mountain Road, Jasper, GA 30143. | https://msc.fema.gov/portal/advanceSearch. | Jul. 2, 2021 | 130375
Oklahoma:
Cleveland | City of Norman (21-06-0022P). | The Honorable Breea Clark, Mayor, City of Norman, P.O. Box 370, Norman, OK 73070. | Public Works Department, Stormwater Division, 201 West Gray Street, Building A, Norman, OK 73069. | https://msc.fema.gov/portal/advanceSearch. | Jun. 25, 2021 | 400046
Rogers | Unincorporated areas of Rogers County (20-06-3071P). | The Honorable Dan DeLozier, Chairman, Rogers County Board of Commissioners, 200 South Lynn Riggs Boulevard, Claremore, OK 74017. | Rogers County Planning Commission, 200 South Lynn Riggs Boulevard, Claremore, OK 74017. | https://msc.fema.gov/portal/advanceSearch. | Jun. 14, 2021 | 405379
Pennsylvania:
Armstrong | Borough of Applewold (20-03-1614P). | The Honorable Faith Shaw, President, Borough of Applewold Council, 351 Franklin Avenue, Kittanning, PA 16201. | Borough Hall, 8 Hickory Street, Kittanning, PA 16201. | https://msc.fema.gov/portal/advanceSearch. | Jun. 21, 2021 | 420093
Armstrong | Borough of Ford City (20-03-1614P). | The Honorable Jeff Cogley, Mayor, Borough of Ford City, P.O. Box 112, Ford City, PA 16226. | Borough Hall, 1000 4th Avenue, Ford City, PA 16226. | https://msc.fema.gov/portal/advanceSearch. | Jun. 21, 2021 | 420094
Armstrong | Borough of Kittanning (20-03-1614P). | The Honorable Scott Kline, Mayor, Borough of Kittanning, 1511 Orr Avenue, Kittanning, PA 16201. | Borough Hall, 300 South McKean Street, Kittanning, PA 16201. | https://msc.fema.gov/portal/advanceSearch. | Jun. 21, 2021 | 420096
Armstrong | Borough of Manorville (20-03-1614P). | The Honorable Greg Meyer, Councilman, Borough of Manorville Council, 900 Water Street, Manorville, PA 16238. | Borough Hall, 600 Center Lane, Manorville, PA 16238. | https://msc.fema.gov/portal/advanceSearch. | Jun. 21, 2021 | 420098
Armstrong | Township of Bethel (20-03-1614P). | The Honorable Steven Dixon, Chairman, Township of Bethel Board of Supervisors, 3218 Ridge Road, Ford City, PA 16226. | Township Hall, 3218 Ridge Road, Ford City, PA 16226. | https://msc.fema.gov/portal/advanceSearch. | Jun. 21, 2021 | 421300
Armstrong | Township of Cadogan (20-03-1614P). | The Honorable David Round, Chairman, Township of Cadogan Board of Supervisors, P.O. Box 309, Cadogan, PA 16212. | Township Hall, 333 1st Avenue, Cadogan, PA 16212. | https://msc.fema.gov/portal/advanceSearch. | Jun. 21, 2021 | 421304
Armstrong | Township of East Franklin (20-03-1614P). | The Honorable Barry Peters, Chairman, Township of East Franklin Board of Supervisors, 739 East Brady Road, Cowansville, PA 16218. | Township Hall, 106 Cherry Orchard Avenue, Kittanning, PA 16201. | https://msc.fema.gov/portal/advanceSearch. | Jun. 21, 2021 | 421305
Armstrong | Township of Manor (20-03-1614P). | The Honorable Donald W. Palmer, Jr., Chairman, Township of Manor Board of Supervisors, P.O. Box 144, McGrann, PA 16236. | Township Hall, 306 Byron Street, McGrann, PA 16236. | https://msc.fema.gov/portal/advanceSearch. | Jun. 21, 2021 | 421309
Armstrong | Township of North Buffalo (20-03-1614P). | The Honorable Michael Valencic, Chairman, Township of North Buffalo Board of Supervisors, 149 McHaddon Road, Kittanning, PA 16201. | Township Hall, 149 McHaddon Road, Kittanning, PA 16201. | https://msc.fema.gov/portal/advanceSearch. | Jun. 21, 2021 | 421310
Armstrong | Township of South Buffalo (20-03-1614P). | The Honorable Joe Charlton, Chairman, Township of South Buffalo Board of Supervisors, 384 Iron Bridge Road, Freeport, PA 16229. | Township Hall, 384 Iron Bridge Road, Freeport, PA 16229. | https://msc.fema.gov/portal/advanceSearch. | Jun. 21, 2021 | 421210
Texas:
Collin | City of Plano (20-06-3373P). | The Honorable Harry LaRosiliere, Mayor, City of Plano, 1520 K Avenue, Plano, TX 75074. | Engineering Department, 1520 K Avenue, Plano, TX 75074. | https://msc.fema.gov/portal/advanceSearch. | Jun. 14, 2021 | 480140
El Paso | City of El Paso (20-06-2846P). | The Honorable Oscar Leeser, Mayor, City of El Paso, 300 North Campbell Street, El Paso, TX 79901. | Flood Mitigation and Land Development Department, 801 Texas Avenue, El Paso, TX 79901. | https://msc.fema.gov/portal/advanceSearch. | Jun. 25, 2021 | 480214
Fort Bend | Unincorporated areas of Fort Bend County (20-06-1722P). | The Honorable K.P. George, Fort Bend County Judge, 301 Jackson Street, 4th Floor, Richmond, TX 77469. | Fort Bend County Engineering Department, 301 Jackson Street, 4th Floor, Richmond, TX 77469. | https://msc.fema.gov/portal/advanceSearch. | Jun. 23, 2021 | 480228
Harris | Unincorporated areas of Harris County (20-06-2933P). | The Honorable Lina Hidalgo, Harris County Judge, 1001 Preston Street, Suite 911, Houston, TX 77064. | Harris County Permit Office, 10555 Northwest Freeway, Suite 120, Houston, TX 77002. | https://msc.fema.gov/portal/advanceSearch. | May 17, 2021 | 480287
Tarrant | City of Fort Worth (20-06-3150P). | The Honorable Betsy Price, Mayor, City of Fort Worth, 200 Texas Street, Fort Worth, TX 76102. | Transportation and Public Works Department, Engineering Vault, 200 Texas Street, Fort Worth, TX 76102. | https://msc.fema.gov/portal/advanceSearch. | Jun. 14, 2021 | 480596
Tarrant | City of Fort Worth (20-06-3276P). | The Honorable Betsy Price, Mayor, City of Fort Worth, 200 Texas Street, Fort Worth, TX 76102. | Transportation and Public Works Department, Engineering Vault, 200 Texas Street, Fort Worth, TX 76102. | https://msc.fema.gov/portal/advanceSearch. | Jun. 21, 2021 | 480596
Tarrant | Unincorporated areas of Tarrant County (20-06-3276P). | The Honorable B. Glen Whitley, Tarrant County Judge, 100 East Weatherford Street, Fort Worth, TX 76196. | Tarrant County Administration Building, 100 East Weatherford Street, Fort Worth, TX 76196. | https://msc.fema.gov/portal/advanceSearch. | Jun. 21, 2021 | 480582
Travis | City of Manor (20-06-2376P). | Mr. Thomas M. Bolt, City of Manor Manager, 105 East Eggleston Street, Manor, TX 78653. | Department of Development Services, 105 East Eggleston Street, Manor, TX 78653. | https://msc.fema.gov/portal/advanceSearch. | Jun. 21, 2021 | 481027
Travis | Unincorporated areas of Travis County (20-06-2376P). | The Honorable Andy Brown, Travis County Judge, 700 Lavaca Street, Suite 2300, Austin, TX 78701. | Travis County Transportation and Natural Resources Department, 700 Lavaca Street, 5th Floor, Austin, TX 78767. | https://msc.fema.gov/portal/advanceSearch. | Jun. 21, 2021 | 481026
Utah:
Sanpete | City of Ephraim (20-08-0461P). | The Honorable John Scott, Mayor, City of Ephraim, 5 South Main Street, Ephraim, UT 84627. | City Hall, 5 South Main Street, Ephraim, UT 84627. | https://msc.fema.gov/portal/advanceSearch. | May 14, 2021 | 490112
Sanpete | Unincorporated areas of Sanpete County (20-08-0461P). | The Honorable Scott Bartholomew, Chairman, Sanpete County Commission, 160 North Main Street, Suite 101, Manti, UT 84642. | Sanpete County Zoning and Building Department, 160 North Main Street, Suite 203, Manti, UT 84642. | https://msc.fema.gov/portal/advanceSearch. | May 14, 2021 | 490111
Virginia:
Independent City | City of Harrisonburg (20-03-1670P). | The Honorable Deanna R. Reed, Mayor, City of Harrisonburg, 409 South Main Street, Harrisonburg, VA 22801. | City Hall, 409 South Main Street, Harrisonburg, VA 22801. | https://msc.fema.gov/portal/advanceSearch. | Jun. 25, 2021 | 510076

[FR Doc. 2021-05855 Filed 3-19-21; 8:45 am]

BILLING CODE 9110-12-P